DEPARTMENT OF DEFENSE

Office of the Secretary

[Docket ID DoD-2020-OS-0008]

Proposed Collection; Comment Request

AGENCY: Office of Net Assessment, DoD.

ACTION: Information collection notice.

SUMMARY: In compliance with the Paperwork Reduction Act of 1995, the Office of Net Assessment announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 16, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of Net Assessment, jryseff@rand.org, James Ryseff, 703-413-1100 ext 5717.

SUPPLEMENTARY INFORMATION:

Title; Associated Form; and OMB Number: Exploring Civil-Military Views Regarding AI and Related Technologies; OMB Control Number 0704-XXXX.

Needs and Uses: The U.S. Department of Defense (DoD) is requesting approval from the Office of Management and Budget (OMB) to conduct a survey with members of the software engineering community, employees of defense and aerospace companies, and the general public. The study will also conduct focus groups with members of the software engineering community and students from computer science programs. This project is funded by the U.S. Department of Defense, Joint Artificial Intelligence Center (JAIC). JAIC has contracted with the RAND Corporation, a non-profit research institute, to conduct this study. This data collection will help ensure DoD's ability to engage with leading private sector technology corporations and their employees.

Affected Public: Individual and households.

Annual Burden Hours: 1,390.

Number of Respondents: 5,210.

Responses per Respondent: 1.

Annual Responses: 5,210.

Average Burden per Response: 16 Minutes.

Frequency: On Occasion.

Dated: January 13, 2020.
Aaron T. Siegel,
Alternate OSD Federal Register Liaison Officer, Department of Defense.

[FR Doc. 2020-00608 Filed 1-15-20; 8:45 am]

BILLING CODE 5001-06-P